COMMODITY FUTURES TRADING COMMISSION

Sunshine Act Meetings

Federal Register CITATION OF PREVIOUS ANNOUNCEMENT: 84 FR 7044, March 1, 2019.

PREVIOUSLY ANNOUNCED TIME AND DATE OF THE MEETING: 10:00 a.m., Thursday, March 7, 2019.

CHANGES IN THE MEETING: The meeting has been cancelled.

CONTACT PERSON FOR MORE INFORMATION: Christopher Kirkpatrick, Secretary of the Commission, 202-418-5964.

Dated: March 5, 2019.
Christopher Kirkpatrick,
Secretary of the Commission.

[FR Doc. 2019-04272 Filed 3-5-19; 4:15 pm]

BILLING CODE 6351-01-P